NUCLEAR REGULATORY COMMISSION

[NRC-2012-0305]

Biweekly Notice; Applications and Amendments to Facility Operating Licenses and Combined Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from November 29, 2012 to December 12, 2012. The last biweekly notice was published on December 11, 2012 (77 FR 73684-73694).

ADDRESSES: You may access information and comment submissions related to this document, which the NRC possesses and are publically available, by searching on http://www.regulations.gov under Docket ID NRC-2012-0305. You may submit comments by any of the following methods:

• Federal Rulemaking Web site: Go to http://www.regulations.gov and search for Docket ID NRC-2012-0305. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0305 when contacting the NRC about the availability of information regarding this document. You may access information related to this document by any of the following methods:

• Federal Rulemaking Web site: Go to http://www.regulations.gov and search for Docket ID NRC-2012-0305.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0305 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC' Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Indiana Michigan Power Company, Docket Nos. 50-315 and 50-316, Donald C. Cook Nuclear Plant, Units 1 and 2, Berrien County, Michigan

Date of amendment request: September 12, 2012.

Description of amendment request: The proposed amendment would revise Technical Specification (TS) 5.5.7, “Steam Generator (SG) Program,” TS 5.6.7, “Steam Generator Tube Inspection Report,” and Limiting Condition for Operation (LCO) 3.4.17, “Steam Generator Tube Integrity,” for Donald C. Cook Nuclear Plant (CNP), Units 1 and 2. The changes are consistent with NRC's approved Technical Specifications Task Force (TSTF) Traveler TSTF-510, Revision 2, “Revision to Steam Generator Program Inspection Frequencies and Tube Sample Selection” (ADAMS Accession Number ML110610350). The availability of this TS improvement was published in the Federal Register on October 27, 2011 (76 FR 66763), as part of the consolidated line item improvement process (CLIIP).

Basis for proposed no significant hazards consideration determination: As required by 10 CFR 50.91(a), the licensee has provided its analysis of the issue of no significant hazards consideration, which is presented below:

1. Does the proposed change involve a significant increase in the probability or consequences of an accident previously evaluated?

Response: No.

The proposed change revises the Steam Generator (SG) Program to modify the frequency of verification of SG tube integrity and SG tube sample selection. A steam generator tube rupture (SGTR) event is one of the design basis accidents that are analyzed as part of a plant's licensing basis. The proposed SG tube inspection frequency and sample selection criteria will continue to ensure that the SG tubes are inspected such that the probability of an SGTR is not increased. Section 4.0, Technical Analysis, of the TSTF demonstrates that the change in frequencies will not increase the probability of an SGTR. The consequences of an SGTR are bounded by the conservative assumptions in the design basis accident analysis. The proposed change will not cause the consequences of an SGTR to exceed those assumptions.

Therefore, it is concluded that this change does not involve a significant increase in the probability or consequences of an accident previously evaluated.

2. Does the proposed change create the possibility of a new or different kind of accident from any accident previously evaluated?

Response: No.

The proposed changes to the Steam Generator Program will not introduce any adverse changes to the plant design basis or postulated accidents resulting from potential tube degradation. The proposed change does not affect the design of the SGs or their method of operation. In addition, the proposed change does not impact any other plant system or component.

Therefore, it is concluded that this change does not create the possibility of a new or different kind of accident from any accident previously evaluated.

3. Does the proposed change involve a significant reduction in a margin of safety?

Response: No.

The SG tubes in pressurized water reactors are an integral part of the reactor coolant pressure boundary and, as such, are relied upon to maintain the primary system's pressure and inventory. As part of the reactor coolant pressure boundary, the SG tubes are unique in that they are also relied upon as a heat transfer surface between the primary and secondary systems such that residual heat can be removed from the primary system. In addition, the SG tubes also isolate the radioactive fission products in the primary coolant from the secondary system. In summary, the safety function of an SG is maintained by ensuring the integrity of its tubes.

Steam generator tube integrity is a function of the design, environment, and the physical condition of the tube. The proposed change does not affect tube design or operating environment. The proposed change will continue to require monitoring of the physical condition of the SG tubes such that there will not be a reduction in the margin of safety compared to the current requirements.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Robert B. Haemer, Senior Nuclear Counsel, One Cook Place, Bridgman, MI 49106.

NRC Branch Chief: Robert D. Carlson.

Northern States Power Company—Minnesota, Docket No. 50-263, Monticello Nuclear Generating Plant (MNGP), Wright County, Minnesota

Date of amendment request: August 21, 2012, as supplemented on November 7, 2012.

Description of amendment request: The amendment proposes to revise the MNGP Renewed Facility Operating License and Technical Specifications (TSs) to reflect editorial corrections to the operating license, including (1) revision of outdated references to the Nuclear Management Company, LLC to state Northern States Power Company (NSPM); (2) removal of an outdated reference to a spent fuel pool storage capacity letter; (3) administrative corrections, including correction of an incorrect phrase in the Core Operating Limits Report (COLR) specification; and (4) removal of obsolete information, including removal of the Operating Power Range Monitoring (OPRM) System note in TS Table 3.3.1.1-1 and removal of analytical methods no longer utilized from the COLR specification.

Basis for proposed no significant hazards consideration determination: As required by 10 CFR 50.91(a), the licensee has provided its analysis of the issue of no significant hazards consideration, which is presented below:

1. Does the proposed amendment involve a significant increase in the probability or consequences of an accident previously evaluated?

Response: No.

The MNGP TS and Updated Safety Analysis Report (USAR) provide the specific limitations on the number of fuel assemblies in the MNGP spent fuel pool, fresh fuel storage vault, and the reactor core. Removing the outdated letter reference from License Condition 2.B.2 in the Renewed [Facility] Operating License (ROL) has no effect on these limitations or on the supporting evaluations.

The proposed changes to the TS and ROL are administrative or editorial in nature and do not impact the physical configuration or function of plant structures, systems, or components (SSCs) or the manner in which SSCs are operated, maintained, modified, tested, or inspected. The proposed changes do not impact the initiators or assumptions of analyzed events, nor do they impact mitigation of accidents or transient events.

Therefore, the proposed changes do not involve a significant increase in the probability or consequences of an accident previously evaluated.

2. Does the proposed amendment create the possibility of a new or different kind of accident from any accident previously evaluated?

Response: No.

The MNGP TS and USAR provide the specific limitations on the number of fuel assemblies in the MNGP spent fuel pool, fresh fuel storage vault, and the reactor core. Removing the outdated letter reference from the license condition in the ROL has no effect on these limitations or on the supporting evaluations. This proposed change does not introduce a new mode of plant operation and does not involve a physical modification to the plant. The change will not introduce new accident initiators or impact the assumptions made in a safety analysis.

The proposed changes to the TS and ROL are administrative in nature and do not alter plant configuration, require that new plant equipment be installed, alter assumptions made about accidents previously evaluated, or impact the function of plant SSCs or the manner in which SSCs are operated, maintained, modified, tested, or inspected.

Therefore, the proposed change does not create the possibility of a new or different kind of accident from any accident previously evaluated.

3. Does the proposed amendment involve a significant reduction in a margin of safety?

Response: No.

Margin of safety is related to confidence in the ability of the fission product barriers to perform their design functions during and following postulated accidents. The MNGP TS and USAR provide the specific limitations on the number of fuel assemblies in the spent fuel pool, fresh fuel storage vault, and the reactor core. Removing the outdated letter reference from the license condition in the ROL has no effect on these limitations or on the supporting evaluations. Accordingly, no margin of safety is affected.

The proposed changes are administrative in nature and do not involve any physical changes to plant SSCs or the manner in which SSCs are operated, maintained, modified, tested, or inspected. The proposed changes do not involve a change to any safety limits, limiting safety system settings, limiting conditions for operation, or design parameters for any SSC. The proposed changes do not impact any safety analysis assumptions and do not involve a change in initial conditions, system response times, or other parameters affecting an accident analysis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: Robert D. Carlson.

Omaha Public Power District, Docket No. 50-285, Fort Calhoun Station, Unit 1, Washington County, Nebraska

Date of amendment request: April 27, 2012.

Description of amendment request: The proposed amendment would revise (1) Technical Specification (TS) LCO 2.16, “River Level,” and (2) TS Surveillance Requirement 3.2, “Equipment and Sampling Tests,” and (3) TS Table 3-5, “Minimum Frequencies for Equipment Tests.” In addition, the amendment would revise the Fort Calhoun Station Radiological Emergency Response Plan declaration procedure as licensed in the NRC safety evaluation dated October 3, 2008, for conversion of the emergency action levels.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes would revise the river level limiting condition for operation (LCO) and surveillance requirement (SR) to the Fort Calhoun Station (FCS) Technical Specifications (TS) and the emergency plan (EP) emergency action level (EAL) entry condition. The proposed TS and EAL changes do not alter the physical design of the intake structure or any other plant structure, system or component (SSC) at FCS. As such, the change does not increase the probability of an accident.

In addition to the previous method of detecting river level (bubblers), radar sounding units that will give a more accurate indication of river level are being added for providing river level. The river level bubblers currently provide indications for EAL classifications, specifically initiating conditions (ICs) HU1 and HA1. Using the radar sounding units for river level measurements increases the reliability and accuracy of the indications for classifying these events. Also, the operators will have river level indication available in the control room.

The proposed TS changes for river level model NUREG-0212, Standard Technical Specifications for Combustion Engineering Pressurized Water Reactors, Revision 2. The proposed changes to the EAL conform to the NRC's regulatory guidance regarding the content of emergency plans as identified in NUREG-0654, Criteria for Preparation and Evaluation of Radiological Emergency Response Plans and Preparedness in Support of Nuclear Power Plants, and Nuclear Energy Institute (NEI) 99-01, Methodology for Development of Emergency Action Levels, Revision 5, dated February 2008.

Therefore, the proposed change does not involve a significant increase in the probability or consequences of an accident previously evaluated.

2. Does the proposed amendment create the possibility of a new or different kind of accident from any accident previously evaluated?

Response: No.

The proposed TS and EAL changes do not alter the physical design, safety limits, or safety analysis assumptions associated with the operation of the plant. Hence, the proposed changes do not introduce any new accident initiators, nor do they reduce or adversely affect the capabilities of any plant structure or system in the performance of their safety function.

Therefore, the proposed change does not create the possibility of a new or different kind of accident from any previously evaluated.

3. Does the proposed amendment involve a significant reduction in a margin of safety?

Response: No.

The proposed TS LCO requirements ensure there is adequate river level present to assure safe reactor operation and are necessary to ensure safety systems accomplish their safety function for design basis accident events. Adding an additional (SR) to the FCS TS for taking river level measurements on a daily frequency will not adversely impact any margin of safety. These proposed TS changes for the river level requirements model those provided in NUREG-0212, Revision 2.

The proposed EAL changes ensure there is adequate protection provided for the health and safety of the public and the employees of OPPD [Omaha Public Power District]. These proposed changes will result in classification of the ALERT level at an earlier (lower) flood level than in the original EAL.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

Virginia Electric and Power Company, Docket Nos. 50-280 and 50-281, Surry Power Station, Units 1 and 2, Surry County, Virginia

Date of amendment request: September 26, 2012.

Description of amendment request: The proposed amendments establish the requirements for the use of a temporary supply line (jumper) to provide service water to the component cooling heat exchangers.

Basis for proposed no significant hazards consideration determination: As required by 10 CFR 50.91(a), the licensee has provided its analysis of the issue of no significant hazards consideration, which is presented below:

1. Involve a significant increase in the probability or consequences of an accident previously evaluated.

The SW [Service Water] and CC [Component Cooling] Water Systems will function as designed under the unit operating constraints specified by this project (i.e., Unit 2 in operation and Unit 1 in a refueling outage), and the potential for a loss of component cooling is already addressed by Station Abnormal Procedures. Therefore, there is no increase in the probability of an accident previously evaluated. The possibility of flooding due to failure of the temporary SW supply jumper in the Turbine Building basement has been evaluated and dispositioned by the implementation of appropriate project constraints and compensatory measures to preclude damage to the temporary SW jumper and to respond to a postulated flooding event. During the time the temporary SW jumper is in service, the installed manual isolation valve in the SW jumper will be under administrative control 24 hours/day; the operator assigned to the administrative control will be directed to close the valve and isolate the SW flow to the CCHXs [component cooling heat exchangers] to conserve Intake Canal inventory. In addition, a 24 hours/day flood watch will be established when the jumper is in service. Therefore, the consequences of an accident previously evaluated are not increased.

2. Create the possibility of a new or different kind of accident from any accident previously evaluated.

The SW and CC Water Systems' design functions and basic configurations are not being altered as a result of using the temporary SW jumper. The temporary jumper is designed to be safety-related and seismic with the design attributes of the normal SW supply line, except for the automatic isolation function and complete missile and heavy load drop protection. The design functions of the SW and CC Water Systems are unchanged as a result of the proposed changes due to (1) required plant conditions, (2) compensatory measures, (3) a contingency action plan for restoration of the normal SW supply if required, and (4) strict administrative control of the installed manual isolation valve to preclude flooding or to isolate non-essential SW within the design basis assumed time limits to maintain Intake Canal inventory. Unit 1 will be in a plant condition that will provide adequate time to restore the normal SW supply, if required. Therefore, since the SW and CC Water Systems will basically function as designed and will be operated in their basic configuration, the possibility of a new or different type of accident than previously evaluated in the UFSAR is not created.

3. Involve a significant reduction in a margin of safety.

The margin of safety as defined in the Technical Specifications is not significantly reduced since an operable SW flowpath to the required number of CCHXs is provided, and unit operating constraints, project constraints, compensatory measures, and contingency action plan will be implemented as required to ensure the integrity and the capability of the SW flowpath. The use of the temporary SW jumper will be limited to the time period when missile producing weather is not expected, and Unit 1 meets specified unit conditions. Therefore, the temporary SW jumper, under the imposed project constraints and compensatory measures, provides comparable reliability as the normal SW supply line. Furthermore, an evaluation using the Probabilistic Risk Assessment model was conducted for the use of the temporary SW jumper. The evaluation concluded that the increase in annual core damage and large, early release frequencies associated with the proposed License amendment Request is characterized as “small changes” consistent with RG [Regulatory Guide] 1.174. In addition, the incremental conditional core damage and large, early release probabilities associated with the proposed License Amendment Request are within the acceptance criteria in RG 1.177. Thus, the margin of safety is not significantly reduced.

The NRC staff has reviewed the licensee's analysis and, based on this review, it appears that the three standards of 10 CFR 50.92(c) are satisfied. Therefore, the NRC staff proposes to determine that the amendment request involves no significant hazards consideration.

Attorney for licensee: Lillian M. Cuoco, Esq., Senior Counsel, Dominion Resources Services, Inc., 120 Tredegar St., RS-2, Richmond, VA 23219.

NRC Branch Chief: Robert Pascarelli.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Dominion Nuclear Connecticut, Inc., Docket No. 50-423, Millstone Power Station, Unit 3, New London County, Connecticut

Date of amendment request: April 12, 2012.

Description of amendment request: The proposed amendment would permanently revise Technical Specification (TS) 6.8.4.g, “Steam Generator (SG) Program,” to exclude a portion of the steam generator tubes below the top of the steam generator tubesheet from periodic inspections. Inclusion of the permanent alternate repair criteria (PARC) in TS 6.8.4.g permits deletion of the previous temporary alternate repair criteria (TARC) for Cycle 15. In addition, this amendment request also revises the reporting criteria in TS 6.9.1.7, “Steam Generator Tube Inspection Report,” to remove reference to the previous Cycle 15 TARC, and adds reporting requirements specific to the PARC.

Date of issuance: December 6, 2012.

Effective date: As of the date of issuance, and shall be implemented within 30 days.

Amendment No.: 255.

Renewed Facility Operating License No. NPF-69: Amendment revised the License and Technical Specifications.

Date of initial notice in Federal Register: May 29, 2012 (77 FR 31658).

The Commission's related evaluation of the amendment is contained in a Safety Evaluation dated December 6, 2012.

No significant hazards consideration comments received: No.

Entergy Gulf States Louisiana, LLC, and Entergy Operations, Inc., Docket No. 50-458, River Bend Station, Unit 1, West Feliciana Parish, Louisiana

Date of amendment request: December 8, 2011, as supplemented by letters dated July 20 and October 26, 2012.

Brief description of amendment: The amendment revised Technical Specification 3.8.1, “AC Sources—Operating,” to include provisions for testing of the automatic transfer function from the onsite 22 kiloVolt bus to offsite power for Division III and the associated Standby Service Water Pump powered by the Division III bus.

Date of issuance: December 5, 2012.

Effective date: As of the date of issuance and shall be implemented prior to startup from the next refueling outage, currently scheduled for early 2013.

Amendment No.: 176.

Facility Operating License No. NPF-47: The amendment revised the Facility Operating License and Technical Specifications.

Date of initial notice in Federal Register: May 1, 2012 (77 FR 25757). The supplemental letters dated July 20 and October 26, 2012, provided additional information that clarified the application, did not expand the scope of the application as originally noticed, and did not change the staff's original proposed no significant hazards consideration determination as published in the Federal Register.

The Commission's related evaluation of the amendment is contained in a Safety Evaluation dated December 5, 2012.

No significant hazards consideration comments received: No.

Entergy Gulf States Louisiana, LLC, and Entergy Operations, Inc., Docket No. 50-458, River Bend Station, Unit 1, West Feliciana Parish, Louisiana

Date of amendment request: June 20, 2012.

Brief description of amendment: The amendment revised the scope of Cyber Security Plan (CSP) Implementation Schedule Milestone #6 and paragraph 2.E of the facility operating license. The amendment modified the scope of Milestone #6 to apply to the technical cyber security controls only. The operational and management controls, as described in Nuclear Energy Institute (NEI) 08-09, Revision 6, would be implemented concurrent with the full implementation of the cyber security program (Milestone #8). Thus, all CSP activities would be fully implemented by the completion date, currently identified in Milestone #8 of the licensee's CSP implementation schedule.

Date of issuance: December 5, 2012.

Effective date: As of the date of issuance and shall be implemented by December 31, 2012.

Amendment No.: 177.

Facility Operating License No. NPF-47: The amendment revised the Facility Operating License.

Date of initial notice in Federal Register: September 11, 2012 (77 FR 55867).

The Commission's related evaluation of the amendment is contained in a Safety Evaluation dated December 5, 2012.

No significant hazards consideration comments received: No.

Entergy Nuclear Operations, Inc., Docket No. 50-247, Indian Point Nuclear Generating Unit 2, Westchester County, New York

Date of application for amendment: October 18, 2011, as supplemented by letters dated April 27, and October 2, 2012.

Brief description of amendment: The amendment changes the Technical Specification Section 3.3.3, “Post Accident Monitoring Instrumentation,” Table 3.3.3-1, “Post Accident Monitoring Instrumentation,” to revise the existing requirement for two channels of the Containment Water Level (Containment Sump) function and two channels of the Containment Sump Water Level (Recirculation Sump) function to only require two Containment Water Level channels. This is consistent with the Standard Technical Specification NUREG-1431.

Date of issuance: November 28, 2012.

Effective date: As of the date of issuance, and shall be implemented within 30 days.

Amendment No.: 270.

Facility Operating License No. DPR-26: The amendment revised the License and the Technical Specifications.

Date of initial notice in Federal Register: December 27, 2011 (76 FR 80975). The supplements dated April 27, and October 2, 2012, provided additional information that clarified the application, did not expand the scope of the application as originally noticed, and did not change the NRC staff's original proposed no significant hazards consideration determination as published in the Federal Register.

The Commission's related evaluation of the amendment is contained in a Safety Evaluation dated November 28, 2012.

No significant hazards consideration comments received: No.

Entergy Nuclear Operations, Inc., Docket Nos. 50-003, 50-247, and 50-286, Indian Point Nuclear Generating Units 1, 2, and 3, (IP1, IP2, and IP3) Westchester County, New York

Date of application for amendment: June 14, 2012. A publicly available version is available at ADAMS Accession No. ML12184A050.

Brief description of amendment: The amendments would revise the Cyber Security Plan Implementation Schedule as approved in license amendments issued on August 2, 2011 (ADAMS Accession No. ML11152A027).

Date of issuance: November 28, 2012.

Effective date: These license amendments are effective as of the date of their issuance and shall be implemented by December 31, 2012.

Amendment Nos.: 56 for IP1, 269 for IP2, and 247 for IP3, respectively.

Facility Operating License Nos. DPR-5, DPR-26, and DPR-64: The amendment revised the Licenses.

Date of initial notice in Federal Register: September 11, 2012 (77 FR 55869).

The Commission's related evaluation of the amendment is contained in a Safety Evaluation dated November 28, 2012.

No significant hazards consideration comments received: No.

Entergy Nuclear Operations, Inc., Docket No. 50-333, James A. FitzPatrick Nuclear Power Plant, Oswego County, New York

Date of application for amendment: June 22, 2010.

Brief description of amendment: The amendment revised the Cyber Security Plan Implementation Schedule as approved in license amendment issued on August 19, 2011 (ADAMS Accession No. ML11152A011).

Date of issuance: December 12, 2012.

Effective date: This license amendment is effective as of the date of its issuance and shall be implemented by December 31, 2012.

Amendment No.: 303.

Renewed Facility Operating License No. DPR-59: The amendment revised the License

Date of initial notice in Federal Register: October 9, 2012 (77 FR 61437).

The Commission's related evaluation of the amendment is contained in a Safety Evaluation dated December 12, 2012.

No significant hazards consideration comments received: Yes. The Safety Evaluation dated December 12, 2012, provides the discussion of the comments received from the New York State.

Entergy Nuclear Operations, Inc., Docket No. 50-255, Palisades Nuclear Plant, Van Buren County, Michigan

Date of application for amendment: June 20, 2012, as supplemented by letter dated November 28, 2012.

Brief description of amendment: The amendment revises the scope of the Cyber Security Plan Implementation Schedule Milestone No. 6 and the existing license condition in the renewed facility operating license.

Date of issuance: December 5, 2012.

Effective date: As of the date of issuance and shall be implemented by December 31, 2012.

Amendment No.: 248.

Facility Operating License No. DPR-20: Amendment revised the Technical Specifications.

Date of initial notice in Federal Register: September 11, 2012 (77 FR 55869). The supplemental letter contained clarifying information and did not change the initial no significant hazards determination, and did not expand the scope of the original Federal Register Notice.

The Commission's related evaluation of the amendment is contained in a Safety Evaluation dated December 5, 2012.

No significant hazards consideration comments received: No.

Entergy Operations, Inc., Docket No. 50-313, Arkansas Nuclear One, Unit 1, and Docket No. 50-368, Arkansas Nuclear One, Unit 2, Pope County, Arkansas

Date of amendment request: June 18, 2012.

Brief description of amendment: The amendments revised the scope of the Cyber Security Plan (CSP) Implementation Schedule Milestone #6 and the physical protection license conditions in the facility operating licenses. The amendments modified the scope of Milestone #6 to apply to the technical cyber security controls only. The operational and management controls, as described in Nuclear Energy Institute (NEI) 08-09, Revision 6, would be implemented concurrent with the full implementation of the cyber security program (Milestone #8). Thus, all CSP activities would be fully implemented by the completion date, currently identified in Milestone #8 of the licensee's CSP implementation schedule.

Date of issuance: December 5, 2012.

Effective date: As of the date of issuance and shall be implemented by December 31, 2012.

Amendment Nos.: Unit 1—247; Unit 2—295.

Renewed Facility Operating License No. DPR-51 (Unit 1) and NPF-6 (Unit 2): The amendments revised the Facility Operating Licenses.

Date of initial notice in Federal Register: September 11, 2012 (77 FR 55871).

The Commission's related evaluation of the amendment is contained in a Safety Evaluation dated December 5, 2012.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: June 27, 2012.

Brief description of amendment: The amendment revised the scope of Cyber Security Plan (CSP) Implementation Schedule Milestone #6 and paragraph 2.E of the facility operating license. The amendment modified the scope of Milestone #6 to apply to the technical cyber security controls only. The operational and management controls, as described in Nuclear Energy Institute (NEI) 08-09, Revision 6, would be implemented concurrent with the full implementation of the cyber security program (Milestone #8). Thus, all CSP activities would be fully implemented by the completion date, currently identified in Milestone #8 of the licensee's CSP implementation schedule.

Date of issuance: December 5, 2012.

Effective date: As of the date of issuance and shall be implemented by December 31, 2012.

Amendment No: 192.

Facility Operating License No. NPF-29: The amendment revised the Facility Operating License.

Date of initial notice in Federal Register: September 11, 2012 (77 FR 55872).

The Commission's related evaluation of the amendment is contained in a Safety Evaluation dated December 5, 2012.

No significant hazards consideration comments received: No.

NextEra Energy Duane Arnold, LLC, Docket No. 50-331, Duane Arnold Energy Center (DAEC), Linn County, Iowa

Date of application for amendments: June 13, 2012.

Brief description of amendments: The amendment approves a change in scope of Cyber Security Plan Implementation Milestone 6, and revise License Condition 2.C.(5), “Physical Protection,” of the Renewed Facility Operating License for the Duane Arnold Energy Center.

Date of issuance: November 28, 2012.

Effective date: This license amendment is effective as of the date of issuance and shall be implemented by December 31, 2012.

Amendment No.: 284.

Renewed Facility Operating License No. DPR-49: Amendment revised the Renewed Facility Operating License.

Date of initial notice in Federal Register: September 11, 2012 (77 FR 55873).

The Commission's related evaluation of the amendment is contained in a Safety Evaluation dated November 28, 2012.

No significant hazards consideration comments received: No.

PSEG Nuclear LLC, Docket Nos. 50-354, 50-272 and 50-311, Hope Creek Generating Station and Salem Nuclear Generating Station, Units 1 and 2, Salem County, New Jersey

Date of application for amendments: July 26, 2012.

Brief description of amendments: The amendments revise the existing license condition regarding physical protection in each of the three facility operating licenses (FOLs) to approve a change to the scope of Implementation Milestone No. 6 of the Cyber Security Plan. Per the FOL revisions, Implementation Milestone No. 6 will only apply to the technical cyber security controls for the Hope Creek Generating Station and the Salem Nuclear Generating Station, Units 1 and 2. The amendments were submitted pursuant to 10 CFR 50.90, “Application for amendment of license, construction permit, or early site permit.”

Date of issuance: December 10, 2012.

Effective date: The license amendments are effective as of the date of issuance.

Amendment Nos.: Hope Creak—192, Salem Unit 1—302, and Unit 2—285.

Facility Operating License Nos. NPF-57, DPR-70 and DPR-75: The amendments revised the FOLs.

Date of initial notice in Federal Register: September 11, 2012 (77 FR 55875).

The Commission's related evaluation of the amendments is contained in a Safety Evaluation dated December 10, 2012.

No significant hazards consideration comments received: No.

Southern Nuclear Operating Company, Inc., Docket Nos. 50-348 and 50-364, Joseph M. Farley Nuclear Plant (FNP), Units 1 and 2, Houston County, Alabama, and Southern Nuclear Operating Company, Inc., Docket Nos. 50-424 and 50-425, Vogtle Electric Generating Plant (VEGP), Units 1 and 2, Burke County, Georgia

Date of amendment request: January 12, 2012, as supplemented on August 15 and September 7, 2012.

Brief description of amendment request: The amendments revise the Technical Specifications (TSs) to extend the reactor coolant pump motor flywheel examination frequency from a 10-year interval to an interval not to exceed 20 years. The reactor coolant pump flywheel inspection program in the TS is also revised to reflect consistency with Regulatory Guide 1.14, Revision 1.

Date of issuance: December 5, 2012.

Effective date: As of the date of issuance and shall be implemented within 90 days.

Amendment Nos.: FNP Unit 1—190 and Unit 2—185; VEGP Unit 1—168 and Unit 2—150.

Facility Operating License Nos. NPF-2 and NPF-8: The amendments changed the licenses and the TSs.

Date of initial notice in Federal Register: February 21, 2012 (77 FR 10000) for FNP and March 6, 2012 (77 FR 13373) for VEGP.

The Commission's related evaluation of the amendments is contained in a Safety Evaluation dated December 5, 2012.

No significant hazards consideration comments received: No.

Tennessee Valley Authority, Docket No. 50-390, Watts Bar Nuclear Plant, Unit 1, Rhea County, Tennessee

Date of application for amendment: March 8, 2012 as supplemented July 18, 2012.

Brief description of amendment: The amendment revised (1) Technical Specification (TS) 3.3.7, “Control Room Emergency Ventilation System (CREVS) Actuation Instrumentation,” by changing the Allowable Value for the main control room air intake radiation monitoring instrumentation in Table 3.3.7-1 from less than or equal to (≤) 9.45E-05 micro-Curie per cubic centimeter (µCi/cc) (3,308 counts per minute (cpm)) to ≤ 1.647E-04 µCi/cc (3,308 cpm); and (2) TS 3.4.16, “RCS Specific Activity,” by lowering the DOSE EQUIVALENT iodine 131 spike limit from 21 micro-Curie/gram (µCi/gm) to 14 µCi/gm in Required Action A.1 and Condition C.

Date of issuance: December 5, 2012.

Effective date: As of the date of issuance and shall be implemented no later than 60 days from date of issuance.

Amendment No.: 91.

Facility Operating License No. NPF-90: Amendment revised the License and TSs.

Date of initial notice in Federal Register: May 15, 2012 (77 FR 28633). The supplement dated July 18, 2012, provided additional information that clarified the application, did not expand the scope of the application as originally noticed, and did not change the staff's original proposed no significant hazards consideration determination as published in the Federal Register.

The Commission's related evaluation of the amendment is contained in a Safety Evaluation dated December 5, 2012.

No significant hazards consideration comments received: No.

Union Electric Company, Docket No. 50-483, Callaway Plant, Unit 1, Callaway County, Missouri

Date of application for amendment: September 22, 2011, as supplemented by letter dated August 6, 2012.

Brief description of amendment: The amendment revised Required Action B.1 of Technical Specification (TS) 3.3.6, “Containment Purge Isolation Instrumentation,” such that a Note is added to the Required Action to conditionally allow containment mini-purge supply and exhaust valves that have been closed in accordance with the Action to be opened under administrative controls as required for certain operational needs. The proposed change is similar to allowances already in place in TS 3.6.3, “Containment Isolation Valves,” and TS 3.9.4, “Containment Penetrations.”

Date of issuance: December 7, 2012.

Effective date: As of its date of issuance and shall be implemented within 90 days from the date of issuance.

Amendment No.: 205.

Facility Operating License No. NPF-30: The amendment revised the Operating License and Technical Specifications.

Date of initial notice in Federal Register: June 26, 2012 (77 FR 38097). The supplement dated August 6, 2012, provided additional information that clarified the application, did not expand the scope of the application as originally noticed, and did not change the staff's original proposed no significant hazards consideration determination as published in the Federal Register.

The Commission's related evaluation of the amendment is contained in a Safety Evaluation dated December 7, 2012.

No significant hazards consideration comments received: No.

Wolf Creek Nuclear Operating Corporation, Docket No. 50-482, Wolf Creek Generating Station, Coffey County, Kansas

Date of amendment request: February 23, 2011, as supplemented by letter dated October 25, 2012.

Brief description of amendment: The amendment revised the Wolf Creek Generating Station Technical Specifications (TSs) 3.3.7, “Control Room Emergency Ventilation System (CREVS) Actuation Instrumentation,” 3.3.8, “Emergency Exhaust System (EES) Actuation Instrumentation,” 3.7.10, “Control Room Emergency Ventilation System (CREVS),” 3.7.11, “Control Room Air Conditioning System (CRACS),” 3.7.13, “Emergency Exhaust System (EES),” 3.8.2, “AC [Alternating Current] Sources—Shutdown,” 3.8.5, “DC [Direct Current] Sources—Shutdown,” 3.8.8, “Inverters—Shutdown,” and 3.8.10, “Distribution Systems—Shutdown.” Specifically, the amendment: (1) Deleted MODES 5 and 6 from the Limiting Condition for Operation (LCO) Applicability for the CREVS and its actuation instrumentation (TS 3.7.10 and TS 3.3.7, respectively); (2) deleted the Required Action from TS 3.7.10 and TS 3.7.11 that requires verifying that the OPERABLE CREVS/CRACS train is capable of being powered by an emergency power source; (3) revised TS 3.7.13 by incorporating a 7-day Completion Time for restoring an inoperable EES train to OPERABLE status during shutdown conditions; (4) adopted NRC-approved Technical Specification Task Force (TSTF) Change Traveler TSTF-36-A, Revision 4, “Addition of LCO 3.0.3 N/A [not applicable] to shutdown electrical power specifications,” for TSs 3.3.8, 3.7.13, 3.8.2, 3.8.5, 3.8.8, and 3.8.10; and (5) added a more restrictive change to the LCO Applicability for TSs 3.8.2, 3.8.5, 3.8.8, and 3.8.10 such that these LCOs apply not only during MODES 5 and 6, but also during the movement of irradiated fuel assemblies regardless of the MODE in which the plant is operating.

Date of issuance: December 5, 2012.

Effective date: As of its date of issuance and shall be implemented within 90 days of the date of issuance.

Amendment No.: 200.

Renewed Facility Operating License No. NPF-42. The amendment revised the Operating License and Technical Specifications.

Date of initial notice in Federal Register: August 23, 2011 (76 FR 52704). The supplemental letter dated October 25, 2012, provided additional information that clarified the application, did not expand the scope of the application as originally noticed, and did not change the staff's original proposed no significant hazards consideration determination as published in the Federal Register.

The Commission's related evaluation of the amendment is contained in a Safety Evaluation dated December 5, 2012.

No significant hazards consideration comments received: No.

Wolf Creek Nuclear Operating Corporation, Docket No. 50-482, Wolf Creek Generating Station, Coffey County, Kansas

Date of amendment request: March 29, 2012.

Brief description of amendment: The amendment revised Technical Specification (TS) 5.5.9, “Steam Generator (SG) Program,” to exclude portions of the tube below the top of the steam generator tubesheet from periodic steam generator tube inspections. In addition, the proposed amendment revises TS 5.6.10, “Steam Generator Tube Inspection Report,” to remove reference to previous interim alternate repair criteria and provide reporting requirements specific to the permanent alternate repair criteria.

Date of issuance: December 11, 2012.

Effective date: As of the date of its issuance and shall be implemented prior to MODE 4 entry during startup from Refueling Outage 19, which is currently scheduled to commence on February 4, 2013.

Amendment No.: 201.

Renewed Facility Operating License No. NPF-42. The amendment revised the Operating License and Technical Specifications.

Date of initial notice in Federal Register: July 3, 2012 (77 FR 39525).

The Commission's related evaluation of the amendment is contained in a Safety Evaluation dated December 11, 2012.

No significant hazards consideration comments received: No.

Wolf Creek Nuclear Operating Corporation, Docket No. 50-482, Wolf Creek Generating Station, Coffey County, Kansas

Date of amendment request: June 13, 2012.

Brief description of amendment: The amendment revised the scope of Cyber Security Plan (CSP) Implementation Schedule Milestone #6 and paragraph 2.E of the renewed facility operating license. The amendment modified the scope of Milestone #6 to apply to the technical cyber security controls only. The operational and management controls, as described in Nuclear Energy Institute (NEI) 08-09, Revision 6, would be implemented concurrent with the full implementation of the cyber security program (Milestone #8). Thus, all CSP activities would be fully implemented by the completion date, currently identified in Milestone #8 of the licensee's CSP implementation schedule.

Date of issuance: December 12, 2012.

Effective date: As of the date of its issuance and shall be implemented by December 31, 2012.

Amendment No.: 202.

Renewed Facility Operating License No. NPF-42. The amendment revised the Operating License.

Date of initial notice in Federal Register: October 2, 2012 (77 FR 60156).

The Commission's related evaluation of the amendment is contained in a Safety Evaluation dated December 12, 2012.

No significant hazards consideration comments received: No.

Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1-800-397-4209, 301-415-4737 or by email to pdr.resource@nrc.gov.

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852, and electronically on the Internet at the NRC's Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in the NRC's adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Pacific Gas and Electric Company, Docket Nos. 50-275 and 50-323, Diablo Canyon Nuclear Power Plant, Units 1 and 2, San Luis Obispo County, California

Date of application for amendments: December 2, 2012.

Brief description of amendments: The amendments made a one-time change to Technical Specification (TS) 3.7.10, “Control Room Ventilation System (CRVS),” to modify the completion time for Required Action A.1, from 7 days to 13 days. This change will allow completion of a modification and required testing to restore the CRVS actuation relays and both CRVS trains to OPERABLE status. TS 3.7.10 Condition A Required Action A.1 was entered on November 27, 2012, at 20:38 Pacific Standard Time (PST), due to the inoperable CRVS actuation relays and the associated completion time will expire on December 4, 2012, at 20:38 PST.

Date of issuance: December 4, 2012.

Effective date: As of its date of issuance and shall be implemented prior to the expiration of the 7-day completion time, or December 4, 2012, at 20:38 PST.

Amendment Nos.: Unit 1—213; Unit 2—215.

Facility Operating License Nos. DPR-80 and DPR-82: The amendments revised the Facility Operating Licenses and Technical Specifications.

Public comments requested as to proposed no significant hazards consideration (NSHC): No.

The Commission's related evaluation of the amendments, finding of emergency circumstances, state consultation, and final NSHC determination are contained in a safety evaluation dated December 4, 2012 (ADAMS Accession No. ML12338A020).

Attorney for licensee: Jennifer Post, Esq., Pacific Gas and Electric Company, P.O. Box 7442, San Francisco, California 94120.

NRC Branch Chief: Michael T. Markley.

Dated at Rockville, Maryland, this 14th day of December 2012.
For the Nuclear Regulatory Commission.
Michele G. Evans,
Director, Division of Operating Reactor Licensing, Office of Nuclear Reactor Regulation.

[FR Doc. 2012-30777 Filed 12-21-12; 4:15 pm]

BILLING CODE 7590-01-P